NATIONAL SCIENCE FOUNDATION

Special Emphasis Panel in Undergraduate Education; Notice of Meeting

In accordance with the Federal Advisory Committee Act (Pub. L. 92-463, as amended), the National Science Foundation announces the following meeting:

Name: Special Emphasis Panel in Undergraduate Education (1214).

Date/Time:April 1-4, 2001; 8 a.m. to 5 p.m.

Place: Rooms 110, 320, 330, 370, 375, 390, 1235, National Science Foundation, 4201 Wilson Boulevard, Arlington, VA.

Type of Meeting: Open.

Contact Person: Dr. Joan Prival, National Science Foundation, 4201 Wilson Boulevard, Arlington, VA 22230. Telephone: (703) 292-4635.

Purpose of Meeting: To convene Principal Investigators from 32 CETP projects to disseminate best practices in science and mathematics teacher preparation.

Agenda: Presentations on accomplishments of teacher preparation projects and undergraduate course reform in science, mathematics, engineering, and technology.

Dated: March 13, 2001.
Susanne Bolton,
Committee Management Officer.

[FR Doc. 01-6593 Filed 3-15-01; 8:45 am]

BILLING CODE 7555-01-M